CORPORATION FOR NATIONAL AND COMMUNITY SERVICE

Protocol for Categorical Exclusions Under the National Environmental Policy Act for Programs Funded by the American Recovery and Reinvestment Act

AGENCY: Corporation for National and Community Service.

ACTION: Notice of interim final action and request for comments.

SUMMARY: The Corporation for National and Community Service (the Corporation) has adopted an interim final protocol that categorically excludes national and community service programs funded under the American Recovery and Reinvestment Act of 2009 (Recovery Act) from the requirement of preparing environmental assessments or environmental impact statements under the National Environmental Policy Act, 42 U.S.C. 432 et seq. (NEPA), because the programs do not individually or cumulatively have a significant effect on the human environment. Notice of the Corporation's protocol satisfies the requirements of the Council for Environmental Quality's (CEQ) NEPA regulations and facilitates reporting requirements under the Recovery Act. By adopting this protocol, the Corporation can better assure that urgently needed Recovery Act financial assistance is disbursed to eligible entities in a timely manner and that such funds are used and reported upon in accordance with the Recovery Act's NEPA compliance provision. While this protocol is immediately effective upon publication, all comments will be reviewed and given full consideration in determining whether amendments to it are appropriate.

DATES: Submit comments on or before August 14, 2009.

ADDRESSES: Irshad Abdal-Haqq, Associate General Counsel, Corporation for National and Community Service, 1201 New York Avenue, NW., Room 10906, Washington, DC 20525; telefax at (202) 606-3467; TDD at (202) 682-5496; or by electronic mail at iabdal-haqq@cns.gov.

FOR FURTHER INFORMATION CONTACT: Irshad Abdal-Haqq at (202) 606-6675.

SUPPLEMENTARY INFORMATION: Section 1609 of the Recovery Act requires the President to report to Congress every 90 days on the compliance with NEPA for projects and activities funded by the Recovery Act. To support this reporting requirement, agencies must, in turn, report to the CEQ on NEPA compliance for projects and activities funded by the Recovery Act. NEPA requires Federal agencies to prepare environmental assessments and environmental impact statements for major Federal actions that may “significantly affect the quality of the human environment.” NEPA requirements apply to Federal projects, decisions, or actions, including grants, that might have an impact on the quality of the human environment. NEPA also established the CEQ, which issued regulations implementing NEPA's procedural provisions. Among other things, the CEQ NEPA regulations require Federal agencies to adopt implementing procedures to supplement the regulations, and to establish and use “categorical exclusions” to define categories of actions that do not individually or cumulatively have a significant effect on the human environment. A categorically excluded action does not require the preparation of an environmental assessment or environmental impact statement before it is carried out. The Corporation plans to develop and publish proposed NEPA procedures covering all of its programs in the near future. After considering comments submitted in response to this notice, this protocol for categorical exclusions will be included in the forthcoming proposed procedures.

Environmental Impact of Corporation Programs

Title VIII, Division A, of the Recovery Act provided additional funding to the Corporation's preexisting AmeriCorps grantees and to support VISTA programs. Among other things, the Corporation funds grants and activities to support national and community service activities that meet the nation's unmet human, educational, environmental, and public safety needs. The Corporation does not fund construction grants or other actions that would potentially have significant environmental effects. Therefore, Corporation-funded activities and programs that were in existence when the Recovery Act was enacted were not required to prepare environmental assessments or environmental impact statements as set out in the NEPA regulations (40 CFR part 1500). Consequently, the interim final protocol adopted by the Corporation identifies activities carried out under programs authorized under the national service as being categorically excluded from having to prepare environmental assessments and environmental impact statements. Note, however, that the interim final protocol also includes a procedure for reviewing extraordinary circumstances involving a specific grantee's proposed service activities to ensure they do not have the potential for a significant impact on the environment and are therefore appropriately categorically excluded from further environmental review for NEPA purposes.

For the reasons set out above, the Corporation for National and Community Service adopts the following interim final protocol:

Protocol for the Categorical Exclusion of Activities Funded by the Corporation for National and Community Service

Purpose: Establishment of National Environmental Policy Act (NEPA) categorical exclusions for national and community service activities and programs supported by the Corporation for National and Community Service (Corporation) and a process for addressing extraordinary circumstances.

Categorical Exclusions

The Corporation follows the regulations of the Council on Environmental Quality (CEQ) in complying with the requirements of NEPA. Pursuant to those regulations, the Corporation determines the following classes of activities as being categorically excluded:

• Providing administrative and other support duties or planning or performing community service activities in any approved national and community service program authorized under the national services laws or the American Recovery and Reinvestment Act of 2009 (Recovery Act). These activities include: Tutoring and mentoring children and youth; working in afterschool programs; assisting out of work adults to find jobs; assisting with community development projects; managing community volunteer programs; providing health care support services; repairing or renovating housing; helping to erect homes for low-income families; and assisting with wildlife and land conservation programs.

Extraordinary Circumstances

The following types of activity require the review and approval of the Corporation and may result in the requirement for an environmental assessment or environmental impact statement:

1. Any activity for which there is a reasonable likelihood of significant effects on public health, safety or the environment (direct, indirect or cumulative).

2. The imposition of uncertain or unique environmental risks that have not been pre-approved and reviewed under NEPA.

3. Greater scope or size than is normal for this category of action.

Process for Resolving Extraordinary Circumstances

An appropriate Corporation representative (usually a program officer or grant officer) will contact the prospective grantee to clarify the full scope and nature of a proposed activity in order to determine whether it could in fact have a significant impact on the environment. If the Corporation determines that a proposed activity could have a significant impact on the environment, the Corporation will work with the prospective grantee to prepare for the Corporation the necessary analyses in accordance with the CEQ NEPA regulations regarding environmental assessments and environment impact statements and include any appropriate mitigation conditions for inclusion in the grant or other agreement prior to making a decision to provide the funding.

Responsibilities

The Corporation's Chief Financial Officer or his or her authorized representative has the responsibility for assuring that all Corporation activities and programs, including those supported by the Recovery Act, are NEPA compliant. This includes coordinating the multidisciplinary review of a possible extraordinary circumstance, which involves individuals with legal, scientific, and other appropriate expertise, and working with prospective grantees in preparing appropriate NEPA analyses.

Dated: July 10, 2009.
William Anderson,
Acting Chief Financial Officer, Corporation for National and Community Service.

[FR Doc. E9-16905 Filed 7-14-09; 8:45 am]

BILLING CODE 6050-$$-P